DEPARTMENT OF THE TREASURY

Community Development Financial Institutions Fund

Notice of Funds Availability (NOFA) Inviting Applications for the FY 2015 Funding Round of the Bank Enterprise Award Program (BEA Program)

Announcement Type: Announcement of funding opportunity.

Funding Opportunity Number: CDFI-2015-BEA.

Catalog of Federal Domestic Assistance (CFDA) Number: 21.021.

KEY DATES:

Table 1—FY 2015 BEA Program Funding Round Key Dates for Applicants
Description | Deadline | Time (Eastern daylight time—EDT) | Submission method
Last day to contact BEA Program staff | June 11, 2015 | 5:00 p.m. EDT | CDFI Fund Helpdesk: 202-653-0421 or cdfihelp@cdfi.treas.gov.
Last day to contact Certification, Compliance Monitoring and Evaluation staff | June 11, 2015 | 5:00 p.m. EDT | CDFI Fund Helpdesk: 202-653-0421 or cdfihelp@cdfi.treas.gov.
Application Part I: BEA Program Application Due Date (Forms include: SF-424 Mandatory, Environmental Review Form, Certifications and Excel charts) | June 15, 2015 | 11:59 p.m. EDT | Electronically via Grants.gov.
Last day to contact IT Help Desk | June 17, 2015 | 5:00 p.m. EDT | CDFI Fund Helpdesk: 202-653-0421 or cdfihelp@cdfi.treas.gov.
Application Part II: myCDFIFund Due Date: (Includes: myCDFIFund account registration, BEA Signature Page and Documentation of Qualified Activities) | June 17, 2015 | 5:00 p.m. EDT | Electronically via myCDFIFund.

SUMMARY: This NOFA is issued in connection with the fiscal year (FY) 2015 funding round of the Bank Enterprise Award Program (BEA Program). The BEA Program is administered by the U.S. Department of the Treasury's Community Development Financial Institutions Fund (CDFI Fund). Through the BEA Program, the CDFI Fund awards formula-based grants to depository institutions that are insured by the Federal Deposit Insurance Corporation (FDIC) for increasing their levels of loans, investments, service activities, and technical assistance within Distressed Communities, and financial assistance to Community Development Financial Institutions (CDFIs) through equity investments, equity-like loans, grants, stock purchases, loans, deposits, and other forms of financial and technical assistance, during a specified period.

I. Program Description

A. History: The CDFI Fund was established by the Riegle Community Development Banking and Financial Institutions Act of 1994 to promote economic revitalization and community development through investment in and assistance to CDFIs. Since its creation in 1994, the CDFI Fund has awarded over $2 billion to CDFIs, community development organizations, and financial institutions through the Community Development Financial Institutions Program (CDFI Program), the Native American CDFI Assistance Program (NACA Program), the BEA Program, the Capital Magnet Fund, and the Financial Education and Counseling Pilot Program. In addition, the CDFI Fund has allocated $40 billion in tax credit allocation authority through the New Markets Tax Credit Program (NMTC Program) and has obligated $525 million in bond guarantees through the CDFI Bond Guarantee Program.

The BEA Program complements the community development activities of banks and thrifts (collectively referred to as banks for purposes of this Notice) by providing financial incentives to expand investments in CDFIs and to increase lending, investment, and service activities within Distressed Communities. Providing monetary awards to banks for increasing their community development activities leverages the CDFI Fund's dollars and puts more capital to work in Distressed Communities throughout the nation.

B. Priorities: Through the BEA Program, the CDFI Fund specifies the following priorities:

1. Estimated award amounts for Applicants that are CDFIs will be equal to three times the award percentages for activities undertaken by Applicants that are not CDFIs;

2. Priority Factors based on Applicant's asset size, as described in Section V.D. of this NOFA (“Application Review Information: Priority Factors”); and

3. Priority of awards: The CDFI Fund will rank Applicants in each category of Qualified Activity according to the priorities described in Section V.F.4 of this NOFA (“Application Review Information: Award Percentages, Award Amounts, Application Review Process, Selection Process, Programmatic Financial Risk, and Application Rejection: Selection Process”).

C. Baseline Period and Assessment Period dates: A BEA Program Award is based on an Applicant's increases in Qualified Activities from the Baseline Period to the Assessment Period. For the FY 2015 funding round, the Baseline Period is calendar year 2013 (January 1, 2013 through December 31, 2013), and the Assessment Period is calendar year 2014 (January 1, 2014 through December 31, 2014). If Qualified Activities in a specific category result in a decrease in activity from the Baseline Period to the Assessment Period, there is no need to report the activity.

D. Authorizing Statutes and Regulations: The BEA Program was authorized by the Bank Enterprise Award Act of 1991, as amended. The regulations governing the BEA Program can be found at 12 CFR part 1806 (Interim Rule). The Interim Rule provides guidance on evaluation criteria and other requirements of the BEA Program. Detailed BEA Program requirements are also found in the Application associated with this NOFA. The CDFI Fund encourages interested parties and Applicants to review the Interim Rule, this NOFA, the Application, and the Uniform Administrative Requirements, Cost Principles, and Audit Requirements for Federal Awards (Uniform Requirements) for a complete understanding of the program. Capitalized terms in this NOFA are defined in the authorizing statute, the Interim Rule, this NOFA, the Application, and the Uniform Requirements. Details regarding Application content requirements are found in the Application and related materials. Application materials can be found on Grants.gov and the CDFI Fund's Web site at www.cdfifund.gov/bea.

E. Uniform Administrative Requirements, Cost Principles, and Audit Requirements for Federal Awards (2 CFR 200): In December 2014, the Department of the Treasury published a final rule, Uniform Administrative Requirements, Cost Principles, and Audit Requirements for Federal Awards (2 CFR part 1000) (Uniform Requirements), which adopted the government-wide framework for grants management codified by the Office of Management and Budget (OMB) at 2 CFR part 200, combining several OMB guidance circulars, reducing administrative burden for award Recipients, and reducing the risk of waste, fraud and abuse of Federal financial assistance. The Uniform Requirements establish financial, administrative, procurement, and program management standards that Federal award-making agencies, including the CDFI Fund, and award Recipients must follow. When evaluating award applications, awarding agencies must evaluate the risks to the program posed by each applicant, and each applicant's merits and eligibility. These requirements are designed to ensure that applicants for Federal assistance receive a fair and consistent review prior to an award decision. This review will assess items such as the Applicant's financial stability, quality of management systems, history of performance, and audit findings. In addition, the Uniform Requirements include guidance on audit requirements and other award requirements with which award Recipients must comply.

F. Funding limitations: The CDFI Fund reserves the right to fund, in whole or in part, any, all, or none of the Applications submitted in response to this NOFA. The CDFI Fund also reserves the right to reallocate funds from the amount that is anticipated to be available through this NOFA to other CDFI Fund programs, or reallocate remaining funds to a future BEA Program funding round, particularly if the CDFI Fund determines that the number of awards made through this NOFA is fewer than projected.

II. Federal Award Information

A. Funding Availability

1. FY 2015 Funding Round and Award Amounts: The CDFI Fund expects to award approximately $18 million in FY 2015 BEA Program Awards in appropriated funds under this NOFA. The CDFI Fund reserves the right to award in excess of said funds under this NOFA, provided that the appropriated funds are available. The CDFI Fund reserves the right to impose a maximum Award amount; however, under no circumstances will an Award be higher than $2 million for any Recipient. The CDFI Fund also reserves the right to impose a minimum Award amount due to availability of funds.

2. Anticipated Start Date and Period of Performance: The CDFI Fund anticipates the period of performance for the FY 2015 Funding Round will begin in the Fall of calendar year 2015. Specifically, the period of performance begins with the date the CDFI Fund issues the notice of award and will conclude one (1) full calendar year after the date of the notice of award, during which the Recipient must meet the performance goals set forth in the Award Agreement.

B. Types of Awards: BEA Program Awards are made in the form of grants.

C. Eligible Activities: Eligible Activities for the BEA Program are referred to as Qualified Activities and are defined in the Interim Rule to include CDFI Related Activities, Distressed Community Financing Activities, and Service Activities (12 CFR 1806.103). It is the explicit policy of the CDFI Fund that BEA Program Awards may not be used by Recipients to recover overhead or indirect costs. Each of the Qualified Activities will be ineligible for indirect costs and an associated indirect cost rate. CDFI Related Activities (12 CFR 1806.103(p)) include Equity Investments, Equity-Like Loans, and CDFI Support Activities.

Distressed Community Financing Activities (12 CFR 1806.103(u)) include Affordable Housing Loans, Affordable Housing Development Loans and related Project Investments; Education Loans; Commercial Real Estate Loans and related Project Investments; Home Improvement Loans; Small Business Loans and related Project Investments, and Small Dollar Consumer Loans. Service Activities (12 CFR 1806.103(oo)) include Deposit Liabilities, Financial Services, Community Services, Targeted Financial Services, and Targeted Retail Savings/Investment Products. When calculating BEA Program Award amounts, the CDFI Fund will only consider the amount of a Qualified Activity that has been fully disbursed or, in the case of a partially disbursed Qualified Activity, will only consider the amount that an Applicant reasonably expects to disburse for a Qualified Activity within 12 months from the end of the Assessment Period. Subject to the requirements outlined in Section VII. B.1. of this NOFA, in the case of Commercial Real Estate Loans and related Project Investments, the total principal amount of the transaction must be $10 million or less to be considered a Qualified Activity. Notwithstanding the foregoing, the CDFI Fund, in its sole discretion, may consider transactions with a total principal value of over $10 million, subject to review. An activity funded with prior BEA Program Award dollars, or funded to satisfy requirements of a BEA Program Award Agreement from a prior Award, shall not constitute a Qualified Activity for the purposes of calculating or receiving an Award.

D. Designation of Distressed Community: Each CDFI Partner that is the recipient of CDFI Support Activities from an Applicant must designate a Distressed Community. CDFI Partners that receive Equity Investments, Equity-Like Loans or Grants are not required to designate a Distressed Community.

Applicants applying for a BEA Program Award for performing Distressed Community Financing Activities or Service Activities must verify that addresses of both Baseline and Assessment Period activities are in Distressed Communities when completing their Application.

Please note that a Distressed Community as defined by the BEA Program is not necessarily the same as an Investment Area as defined by the CDFI Program or a Low-Income Community as defined by the NMTC Program.

1. Definition of Distressed Community: A Distressed Community must meet certain minimum geographic area and eligibility requirements, which are defined in the Interim Rule at 12 CFR 1806.103(t) and more fully described in 12 CFR 1806.401. Applicants should use the CDFI Fund's Information Mapping System (CIMS3) to determine whether a Baseline Period activity or Assessment Period activity is located in a qualified Distressed Community.

2. Distressed Community Designation by a CDFI Partner: A CDFI Partner (as appropriate) shall designate an area as a Distressed Community by:

a. Selecting a census tract that meets the minimum area and eligibility requirements; or by

b. selecting two or more contiguous census tracts that, in the aggregate, meet minimum area and eligibility requirements set forth in paragraph (1) of this section. A CDFI Partner designates a Distressed Community by submitting a map of the Distressed Community as described in the BEA Program Application. CDFI Partners must use CIMS3 to designate a Distressed Community. CIMS3 is accessed through myCDFIFund and contains step-by-step instructions on how to create and save the aforementioned map of the Distressed Community. myCDFIFund is an electronic interface that is accessed through the CDFI Fund's Web site (www.cdfifund.gov). Instructions for registering with myCDFIFund are available on the CDFI Fund's Web site. If you have any questions or problems with registering, please contact the CDFI Fund IT HelpDesk by telephone at (202) 653-0300, or by email to ITHelpDesk@cdfi.treas.gov.

3. Distressed Community Determination by a BEA Applicant: A BEA Applicant shall determine an area is a Distressed Community by:

a. Selecting a census tract where the Qualified Activity occurred that meets the minimum area and eligibility requirements; or

b. selecting the census tract where the Qualified Activity occurred, plus one or more census tracts directly contiguous to where the Qualified Activity occurred that when considered in the aggregate, meet the minimum area and eligibility requirements set forth in paragraph (1) of this section.

E. Award Agreement: Each Recipient under this NOFA must sign an Award Agreement prior to disbursement by the CDFI Fund of the Award proceeds. The Award Agreement contains the terms and conditions of the Award. For further information, see Section VI of this NOFA.

III. Eligibility Information

A. Eligible Applicants: For the purposes of this NOFA, the following table sets forth the eligibility criteria to receive an award from the CDFI Fund.

Table 2—Eligibility Requirements for Applicants
Criteria | Description
Eligible Applicants | Eligible Applicants for the BEA Program must be Insured Depository Institutions, as defined in Section 3 of the Federal Deposit Insurance Act 12 U.S.C. 1813(c)(2). For the FY 2015 funding round, an Applicant must be FDIC-insured as of December 31, 2014 to be eligible for consideration for a BEA Program Award under this NOFA. The depository institution holding company of an Insured Depository Institution may not apply on behalf of an Insured Depository Institution. Applications received from depository institution holding companies will be disqualified.
CDFI Applicant | For the FY 2015 funding round, an eligible certified-CDFI Applicant is an Insured Depository Institution that was certified as a CDFI as of December 31, 2014 and that maintains its status as a certified CDFI at the time BEA Program Awards are announced under this NOFA.
| No CDFI Applicant may receive a FY 2015 BEA Program Award if it has: (1) An application pending for assistance under the FY 2015 round of the CDFI Program; (2) been awarded assistance from the CDFI Fund under the CDFI Program within the 12-month period prior to the date of the FY 2015 notice of award issued by the CDFI Program; or (3) ever received assistance under the CDFI Program for the same activities for which it is seeking a FY 2015 BEA Program Award. Please note that Applicants may apply for both a CDFI Program Award and a BEA Program Award in FY 2015; however, receiving a FY 2015 CDFI Program award removes an Applicant from eligibility for a FY 2015 BEA Program Award.
Debarment/Do Not Pay Verification | The CDFI Fund will conduct a debarment check and will not consider an Application submitted by an Applicant if the Applicant is delinquent on any Federal debt. The Do Not Pay Business Center was developed to support Federal agencies in their efforts to reduce the number of improper payments made through programs funded by the Federal government. The Do Not Pay Business Center provides delinquency information to the CDFI Fund to assist with the debarment check.

Prior Award Recipients: The previous success of an Applicant in any of the CDFI Fund's programs will not be considered under this NOFA. Prior BEA Program Award Recipients and prior Award Recipients of other CDFI Fund programs are eligible to apply under this NOFA, except as noted in the following table:

Table 3—Eligibility Requirements for Applicants Which are Prior Award Recipients
Criteria | Description
Pending resolution of noncompliance | If an Applicant that is a prior Award Recipient or Allocatee under any CDFI Fund program: (i) Has submitted reports to the CDFI Fund that demonstrate noncompliance with a previous assistance agreement, award agreement, allocation agreement, bond loan agreement, or agreement to guarantee and (ii) the CDFI Fund has yet to make a final determination as to whether the entity is in default of its previous agreement, the CDFI Fund will consider the Applicant's Application under this NOFA pending full resolution, in the sole determination of the CDFI Fund, of the noncompliance.
Default status | The CDFI Fund will not consider an Application submitted by an Applicant that is a prior CDFI Fund Award Recipient or Allocatee under any CDFI Fund program if, as of the applicable Application deadline of this NOFA, the CDFI Fund has made a final determination that such Applicant is in default of a previously executed assistance agreement, award agreement, allocation agreement, bond loan agreement, or agreement to guarantee. Such entities will be ineligible to apply for an Award pursuant to this NOFA so long as the Applicant's prior award or allocation remains in default status or such other time period as specified by the CDFI Fund in writing.
Undisbursed funds | For the purposes of this section, the term “undisbursed funds” is defined as: (i) In the case of prior BEA Program Award(s), any balance of Award funds equal to or greater than five percent of the total prior BEA Program Award(s) that remains undisbursed more than three years after the end of the calendar year in which the CDFI Fund signed an Award Agreement with the Award Recipient, or (ii) in the case of prior CDFI Program or other CDFI Fund program award(s), any balance of award funds equal to or greater than five percent of the total prior award(s) that remains undisbursed more than two years after the end of the calendar year in which the CDFI Fund signed the applicable assistance agreement with the Award Recipient.
| The term “undisbursed funds” does not include (i) tax credit allocation authority allocated through the NMTC Program; (ii) any award funds for which the CDFI Fund received a full and complete disbursement request from the Award Recipient as of the Application deadline of this NOFA; (iii) an award that does not have a fully executed award agreement; or (iv) any award funds for an award that has been terminated, expired, rescinded, or de-obligated by the CDFI Fund.
| The CDFI Fund will not consider an Application submitted by an Applicant that is a prior CDFI Fund award Recipient under any CDFI Fund program if the Applicant has a balance of undisbursed funds under said prior award(s), as of the Application deadline of this NOFA. Further, an entity is not eligible to apply for an Award pursuant to this NOFA if an Affiliate of the Applicant is a prior CDFI Fund award Recipient under any CDFI Fund program, and has a balance of undisbursed funds under said prior Award(s), as of the Application deadline of this NOFA. In the case where an Affiliate of the Applicant is a prior CDFI Fund award Recipient under any CDFI Fund program, and has a balance of undisbursed funds under said prior award(s), as of the Application deadline of this NOFA, the CDFI Fund will include the combined awards of the Applicant and such Affiliates when calculating the amount of undisbursed funds.

Contact the CDFI Fund: Accordingly, Applicants that are prior Recipients and/or Allocatees under any CDFI Fund program are advised to: (i) Comply with requirements specified in an assistance agreement, award agreement, allocation agreement, bond loan agreement, or agreement to guarantee and (ii) contact the CDFI Fund to ensure that all necessary actions are underway for the disbursement of any outstanding balance of a prior award(s). An Applicant that is unsure about the disbursement status of any prior award should contact the CDFI Fund by sending an email to cdfihelp@cdfi.treas.gov. All outstanding reports and compliance questions should be directed to the Certification, Compliance Monitoring, and Evaluation helpdesk by email at ccme@cdfi.treas.gov or by telephone at (202) 653-0421. The CDFI Fund will respond to Applicants' reporting, compliance, or disbursement questions between the hours of 9:00 a.m. and 5:00 p.m. ET, starting on the date of the publication of this NOFA through June 11, 2015. The CDFI Fund will not respond to Applicants' reporting, compliance, or disbursement telephone calls or email inquiries that are received after 5:00 p.m. ET on June 11, 2015 until after the Application deadline. The CDFI Fund will respond to technical issues related to myCDFIFund Accounts through 5:00 p.m. ET on June 17, 2015 at ithelpdesk@cdfi.treas.gov or by telephone at (202) 653-0422.

B. Cost sharing or matching fund requirements: Not applicable.

IV. Application and Submission Information

A. Address to Request an Application Package: Application materials can be found on Grants.gov and the CDFI Fund's Web site at www.cdfifund.gov/bea. Applicants may request a paper version of any Application material by contacting the CDFI Fund Help Desk at cdfihelp@cdfi.treas.gov.

B. Content and Form of Application Submission: All Application materials must be prepared using the English language and calculations must be made in U.S. dollars. Detailed Application content requirements are found in the Application associated with this NOFA. Applicants must submit all materials described in and required by the Application by the applicable deadlines. Additional information, including instructions relating to the submission of the Application via Grants.gov, and the submission of the FY 2015 BEA Signature Page and supporting documentation via myCDFIFund, is set forth in further detail in the Application.

C. Dun and Bradstreet Universal Numbering System (DUNS) Number and System for Award Management (SAM): Please note that, pursuant to OMB guidance (68 FR 38402), each Applicant must provide, as part of its Application submission, a Dun and Bradstreet Data Universal Numbering System (DUNS) number and a current Employer Identification Number (EIN). Applicants should allow sufficient time for the IRS and/or Dun and Bradstreet to respond to inquiries and/or requests for identification numbers. Applicants without a DUNS number will not be able to register and submit an Application in the Grants.gov system.

An active SAM account is required to submit Applications via Grants.gov. Neither the SAM account, EIN, nor the DUNS number can be that of the depository institution holding company of the Applicant. Applicants are advised to allow ample time to complete the entire registration and submission process prior to the application deadline. The SAM registration process can take several weeks to complete. Applicants that have previously completed the SAM registration process must verify that their SAM accounts are current and active. Each Applicant must continue to maintain an active SAM registration with current information at all times during which it has an active Federal award or an Application under consideration by a Federal awarding agency. The CDFI Fund will not consider any Applicant that fails to properly register or activate its SAM account and, as a result, is unable to submit its Application by the Application deadline. Applicants must contact SAM directly with questions related to registration or SAM account changes as the CDFI Fund does not maintain this system. For more information about SAM, please visit https://www.sam.gov.

An Application that does not include an EIN or DUNS number is incomplete and cannot be transmitted to the CDFI Fund. The preceding sentences do not limit the CDFI Fund's ability to contact an Applicant for the purpose of confirming or clarifying information regarding a DUNS number or EIN. Once an Application is submitted, the Applicant will not be allowed to change any element of the Application.

The CDFI Fund reserves the right to request and review other pertinent or public information that has not been specifically requested in this NOFA or the Application. As set forth in further detail in the Application, any Qualified Activity missing the required documentation will be disqualified. Applicants will not be allowed to submit missing documentation for Qualified Activities after the Application deadline. Information submitted by the Applicant that the CDFI Fund has not specifically requested will not be reviewed or considered as part of the Application. Applicants must submit Applications under this NOFA via Grants.gov and with certain required documentation via myCDFIFund according to the instructions in the Application.

1. Grants.gov: In order to submit an Application via Grants.gov, Applicants must complete a multi-step registration process. This includes providing a DUNS and registration at www.sam.gov. The CDFI Fund strongly encourages Applicants to start the Grants.gov registration process as soon as possible (refer to the following link: http://www.grants.gov/web/grants/register.html) as it may take several weeks to complete. An Applicant that has previously registered with Grants.gov must verify that its registration is current and active. Applicants should contact Grants.gov directly with questions related to the registration or submittal process as the CDFI Fund does not maintain the Grants.gov system.

2. myCDFIFund: All Applicants and CDFI Partners must complete a FY 2015 BEA Signature Page in myCDFIFund, the CDFI Fund's Internet-based interface. All Applicants and CDFI Partners must register User and Organization accounts in myCDFIFund by the applicable Application deadline. Failure to register and complete a FY 2015 BEA Signature Page in myCDFIFund could result in the CDFI Fund being unable to accept the Application. As myCDFIFund is the CDFI Fund's primary means of communication with Applicants and Award Recipients, institutions must make sure that they update their contact information in their myCDFIFund accounts. In addition, the Applicant should ensure that the Applicant name is the same institution's name on the Application materials (SF-424 and other forms). EINs and DUNS numbers in the Applicant's System for Award Management (SAM) account must match those listed in myCDFIFund. For more information on myCDFIFund, please see the “Frequently Asked Questions” link posted at https://www.cdfifund.gov/myCDFI/Help/Help.asp. Qualified Activity documentation and other attachments as specified in the applicable BEA Program Application must be submitted electronically via the BEA Signature Page interface in myCDFIFund. Detailed instructions regarding submission of Qualified Activity documentation is provided in the Application instructions. Applications, attachments, and Qualified Activity documentation delivered by hard copy to the CDFI Fund's Washington, DC office address will be rejected, unless the Applicant previously requested a paper version of the Application as described in Section IV.A.

D. Submission Dates and Times: The following table provides the critical deadlines for the FY 2015 Funding Round. Applications and other required documents and other attachments received after the deadline on the applicable date will be rejected. Please note that the document submission deadlines in this NOFA and the Application are strictly enforced. The CDFI Fund will not grant exceptions or waivers for late submissions except where the submission delay was a direct result of a Federal government administrative or technological error.

Table 4—FY 2015 BEA Program Funding Round Critical Deadlines for Applicants
Description | Deadline | Time (eastern daylight time—EDT) | Submission method
Application Part I: BEA Program Application Due Date (Application Part I Forms include: SF-424 Mandatory, Environmental Review Form, Certifications and Excel charts) | June 15, 2015 | 11:59 p.m. EDT | Electronically via Grants.gov.
Application Part II: myCDFIFund Due Date (This includes myCDFIFund account registration, BEA Signature Page and Documentation of Qualified Activities) | June 17, 2015 | 5:00 pm EDT | Electronically via myCDFIFund.

1. Confirmation of Application Submission: Applicants may verify their Application submission in Grants.gov and myCDFIFund.

a. Grants.gov: Each Applicant will receive an email from Grants.gov immediately after Application submission confirming that the submission has entered the Grants.gov system. This email will contain a tracking number for the submitted Application package. Within 48 hours, the Applicant will receive a second email which will indicate if the submitted Application package was either successfully validated or rejected with errors. However, Applicants should not rely on the second email notification from Grants.gov to confirm that their Applications were validated. Applicants are strongly encouraged to use the tracking number provided in the first email to closely monitor the status of their Application package by contacting the helpdesk at Grants.gov directly. The Application package is not officially accepted by the CDFI Fund until Grants.gov has validated the Application.

b. myCDFIFund.gov: Applicants will not receive an email confirmation for the BEA Signature Page and related materials submitted in myCDFIFund. Instead, Applicants should check their myCDFIFund account to ensure that the BEA Signature Page is listed under “Submitted Applications.” Step-by-step instructions are provided in the Application and supplemental guidance materials.

2. Multiple Application Submissions: If an Applicant submits multiple versions of its Application, the CDFI Fund will only review the last Application submitted in Grants.gov.

3. Late Submission: The CDFI Fund will not accept an Application submitted after the Application deadline except where the submission delay was a direct result of a Federal government administrative or technological error. In such case, the Applicant must submit a request for acceptance of late Application submission and include documentation of the error no later than two business days after the applicable Application deadline. The CDFI Fund will not respond to request for acceptance of late Application submissions after that time period. Applicants must submit late Application submission requests to the CDFI Helpdesk at cdfihelp@cdfi.treas.gov with a subject line of “Late Application Submission Request.”

E. Funding Restrictions: BEA Program Awards are limited by the following:

1. A Recipient shall use BEA Program funds only for the eligible activities described in Section II. D. of this NOFA and its Award Agreement.

2. A Recipient may not distribute BEA Program funds to an Affiliate, Subsidiary, or any other entity, without the CDFI Fund's prior written approval.

3. BEA Program funds shall only be disbursed to the Recipient.

4. The CDFI Fund, in its sole discretion, may disburse BEA Program funds in amounts, or under terms and conditions, which are different from those requested by an Applicant.

F. Other Submission Requirements: None.

V. Application Review Information

A. Criteria: If the Applicant submitted a complete and eligible Application, the CDFI Fund will conduct a substantive review in accordance with the criteria and procedures described in the Regulations, this NOFA, the Application guidance, and the Uniform Requirements. The CDFI Fund reserves the right to contact the Applicant by telephone, email, or mail for the sole purpose of clarifying or confirming Application information. If contacted, the Applicant must respond within the time period communicated by the CDFI Fund or run the risk that its Application will be rejected.

1. CDFI Related Activities: CDFI Related Activities include Equity Investments, Equity-Like Loans, and CDFI Support Activities provided to eligible CDFI Partners.

2. Eligible CDFI Partner: CDFI Partner is defined as a CDFI that has been provided assistance in the form of CDFI Related Activities by an unaffiliated Applicant (12 CFR 1806.103(o)). For the purposes of this NOFA, an eligible CDFI Partner is an entity that has been certified as a CDFI as of the end of the applicable Assessment Period and is Integrally Involved in a Distressed Community.

3. Integrally Involved: Integrally Involved is defined as having provided: (i) At least 10 percent of financial transactions or dollars transacted (e.g., loans or equity investments), or 10 percent of Development Service Activities (as defined in 12 CFR 1805.104(s)), in one or more Distressed Communities identified by the Applicant or the CDFI Partner, as applicable, in each of the three calendar years preceding the date of the applicable NOFA, (ii) having transacted at least 25 percent of financial transactions (e.g., loans or equity investments) in one or more Distressed Communities in at least one of the three calendar years preceding the date of this NOFA, or (iii) demonstrated that it has attained at least 10 percent of market share for a particular product in one or more Distressed Communities (such as home mortgages originated in one or more Distressed Communities) in at least one of the three calendar years preceding the date of this NOFA.

4. Limitations on eligible Qualified Activities provided to certain CDFI Partners: A CDFI Applicant cannot receive credit for any financial assistance or Qualified Activities provided to a CDFI Partner that is also an FDIC-insured depository institution or depository institution holding company.

5. Certificates of Deposit: Section 1806.103(q) of the Interim Rule states that any certificate of deposit (CD) placed by an Applicant or its Subsidiary in a CDFI Partner that is a bank, thrift, or credit union must be: (i) Uninsured and committed for at least three years; or (ii) insured, committed for a term of at least three years, and provided at an interest rate that is materially below market rates, in the determination of the CDFI Fund.

a. For purposes of this NOFA, “materially below market interest rate” is defined as an annual percentage rate that does not exceed 100 percent of yields on Treasury securities at constant maturity as interpolated by Treasury from the daily yield curve and available on the Treasury Web site at www.treas.gov/offices/domestic-finance/debt-management/interest-rate/yield.shtml. For example, for a three-year CD, Applicants should use the three-year rate U.S. Government securities, Treasury Yield Curve Rate posted for that business day. The Treasury updates the Web site daily at approximately 5:30 p.m. ET. CDs placed prior to that time may use the rate posted for the previous business day. The annual percentage rate on a CD should be compounded daily, quarterly, semi-annually, or annually. If a variable interest rate is used, the CD must also have an interest rate that is materially below the market interest rate over the life of the CD, in the determination of the CDFI Fund.

b. For purposes of this NOFA, a deposit placed by an Applicant directly with a CDFI Partner that participates in a deposit network or service may be treated as eligible under this NOFA if it otherwise meets the criteria for deposits in 1806.103(q) and the CDFI Partner retains the full amount of the initial deposit or an amount equivalent to the full amount of the initial deposit through a deposit network exchange transaction.

6. Equity Investment: An Equity Investment means financial assistance in the form of a grant, a stock purchase, a purchase of a partnership interest, a purchase of a limited liability company membership interest, or any other investment deemed to be an Equity Investment by the CDFI Fund provided by an Applicant or its Subsidiary to a CDFI Partner that meets the criteria set forth in the applicable NOFA.

7. Equity-Like Loan: An Equity-Like Loan is a loan provided by an Applicant or its Subsidiary to a CDFI Partner, and made on such terms that it has characteristics of an Equity Investment, as such characteristics may be specified by the CDFI Fund (12 CFR 1806.103(z)). For purposes of this NOFA, an Equity-Like Loan must meet the following characteristics:

a. At the end of the initial term, the loan must have a definite rolling maturity date that is automatically extended on an annual basis if the CDFI borrower continues to be financially sound and carry out a community development mission;

b. Periodic payments of interest and/or principal may only be made out of the CDFI borrower's available cash flow after satisfying all other obligations;

c. Failure to pay principal or interest (except at maturity) will not automatically result in a default of the loan agreement; and

d. The loan must be subordinated to all other debt except for other Equity-Like Loans. Notwithstanding the foregoing, the CDFI Fund reserves the right to determine, in its sole discretion and on a case-by-case basis, whether an instrument meets the above-stated characteristics of an Equity-Like Loan.

8. CDFI Support Activity: A CDFI Support Activity is defined as assistance provided by an Applicant or its Subsidiary to a CDFI Partner, in the form of a loan, technical assistance, or deposits.

9. CDFI Program Matching Funds: Equity Investments, Equity-Like Loans, and CDFI Support Activities (except technical assistance) provided by a BEA Applicant to a CDFI and used by the CDFI for matching funds under the CDFI Program are eligible as a Qualified Activity under the CDFI Related Activity category.

10. Distressed Community Financing Activities and Service Activities: Distressed Community Financing Activities comply with consumer protection laws and include Affordable Housing Loans, Affordable Housing Development Loans and related Project Investments, Education Loans, Commercial Real Estate Loans and related Project Investments, Home Improvement Loans, Small Business Loans and related Project Investments (12 CFR 1806.103(ll)), and Small Dollar Consumer Loans. In addition to the regulatory requirements, this NOFA provides the following additional requirements:

a. Commercial Real Estate Loans and related Project Investments: For purposes of this NOFA, eligible Commercial Real Estate Loans (12 CFR 1806.103(k)) and related Project Investments (12 CFR 1806.103(ll)) are generally limited to transactions with a total principal value of $10 million or less. Notwithstanding the foregoing, the CDFI Fund, in its sole discretion, may consider transactions with a total principal value of over $10 million, subject to review. For such transactions, Applicants must provide a separate narrative, or other information, to demonstrate that the proposed project offers, or significantly enhances the quality of, a facility or service not currently provided to the Distressed Community.

b. Small Dollar Consumer Loan: For purposes of this NOFA, eligible Small Dollar Consumer Loans are affordable loans that serve as available alternatives to the marketplace for individuals who are Eligible Residents with a total principal value between $500 and $5,000 and have a term of ninety (90) days or more.

11. Reporting certain Financial Services: The CDFI Fund will value the administrative cost of providing certain Financial Services using the following per unit values:

a. $100.00 per account for Targeted Financial Services including youth savings accounts, Electronic Transfer Accounts and Individual Development Accounts;

b. $50.00 per account for checking and savings accounts that do not meet the definition of Targeted Financial Services;

c. $5.00 per check cashing transaction;

d. $25,000 per new ATM installed at a location in a Distressed Community;

e. $2,500 per ATM operated at a location in a Distressed Community;

f. $250,000 per new retail bank branch office opened in a Distressed Community, including school-based bank branches approved by the Applicant's Federal bank regulator; and

g. In the case of Applicants engaging in Financial Services activities not described above, the CDFI Fund will determine the unit value of such services.

h. When reporting the opening of a new retail bank branch office, the Applicant must certify that it has not operated a retail branch in the same Distressed Community in which the new retail branch office is being opened in the past three years, and that such new branch will remain in operation for at least the next five years.

i. Financial Service Activities must be provided by the Applicant to Low- and Moderate-Income Residents. An Applicant may determine the number of Low- and Moderate-Income individuals who are recipients of Financial Services by either: (i) Collecting income data on its Financial Services customers, or (ii) certifying that the Applicant reasonably believes that such customers are Low- and Moderate-Income individuals and providing a brief analytical narrative with information describing how the Applicant made this determination. Citations must be provided for external sources. In addition, if external sources are referenced in the narrative, the Applicant must explain how it reached the conclusion that the cited references are directly related to the Low-and Moderate-Income residents to whom it is claiming to have provided the Financial Services.

j. When reporting changes in the dollar amount of deposit accounts, only calculate the net change in the total dollar amount of eligible Deposit Liabilities between the Baseline Period and the Assessment Period. Do not report each individual deposit. If the net change between the Baseline Period and Assessment Period is a negative dollar amount, then a negative dollar amount may be recorded for Deposit Liabilities only. Instructions for determining the net change is available in the Supplemental Guidance to the FY 2015 BEA Program Application.

12. Priority Factors: Priority Factors are the numeric values assigned to individual types of activity within: (i) The Distressed Community Financing, and (ii) Services categories of Qualified Activities. For the purposes of this NOFA, Priority Factors will be based on the Applicant's asset size as of the end of the Assessment Period (December 31, 2014) as reported by the Applicant in the Application. Asset size classes (i.e., small institutions, intermediate-small institutions, and large institutions) will correspond to the Community Reinvestment Act (CRA) asset size classes set by the three Federal bank regulatory agencies and that were effective as of the end of the Assessment Period. The Priority Factor works by multiplying the change in a Qualified Activity by the assigned Priority Factor to achieve a “weighted value.” This weighted value of the change would be multiplied by the applicable Award percentage to yield the Award amount for that particular activity. For purposes of this NOFA, the CDFI Fund is establishing Priority Factors based on Applicant asset size to be applied to all activity within the Distressed Community Financing Activities and Service Activities categories only, as follows:

Table 5—CRA Asset Size Classification
| Priority factor
Small institutions (assets of less than $305 million as of 12/31/2014) | 5.0
Intermediate—small institutions (assets of at least $305 million but less than $1.221 billion as of 12/31/2014) | 3.0
Large institutions (assets of $1.221 billion or greater as of 12/31/2014) | 1.0

13. Certain Limitations on Qualified Activities:

a. Low-Income Housing Tax Credits: Financial assistance provided by an Applicant for which the Applicant receives benefits through Low-Income Housing Tax Credits, authorized pursuant to Section 42 of the Internal Revenue Code, as amended (26 U.S.C. 42), shall not constitute an Equity Investment, Project Investment, or other Qualified Activity, for the purposes of calculating or receiving a Bank Enterprise Award.

b. New Markets Tax Credits: Financial assistance provided by an Applicant for which the Applicant receives benefits as an investor in a Community Development Entity that has received an allocation of New Markets Tax Credits, authorized pursuant to Section 45D of the Internal Revenue Code, as amended (26 U.S.C. 45D), shall not constitute an Equity Investment, Project Investment, or other Qualified Activity, for the purposes of calculating or receiving a Bank Enterprise Award. Leverage loans used in New Markets Tax Credit structured transactions that meet the requirements outlined in this NOFA are considered Distressed Community Financing Activities.

c. Loan Renewals and Refinances: Financial assistance provided by an Applicant shall not constitute a Qualified Activity, as defined in this part, for the purposes of calculating or receiving a Bank Enterprise Award if such financial assistance consists of a loan to a borrower that has matured and is then renewed by the Applicant, or consists of a loan to a borrower that is retired or restructured using the proceeds of a new commitment by the Applicant. Payoff of a separate third party obligation will only be considered a Qualified Activity if the payoff of a transaction is part of the sale of property or business to an unaffiliated party to the borrower. Applicants should include a narrative statement to describe any such transactions. Otherwise the transaction will be disqualified.

d. Certain Business Types: Financial assistance provided by an Applicant shall not constitute a Qualified Activity, as defined in this part, for the purposes of financing the following business types: Golf courses, race tracks, gambling facilities, certain farming businesses as described in 26 CFR part 1.45D-1(d)(5)(iii)(C), country clubs, massage parlors, hot tub facilities, suntan facilities, or stores where the principal business is the sale of alcoholic beverages for consumption off premises.

e. Prior BEA Program Awards: Qualified Activities funded with prior funding round BEA Program Award dollars or funded to satisfy requirements of the BEA Program Award Agreement shall not constitute a Qualified Activity for the purposes of calculating or receiving a BEA Program Award.

f. Prior CDFI Program Awards: No CDFI Applicant may receive a BEA Program Award for activities funded by another CDFI Fund program or Federal program.

14. Award Percentages, Award Amounts, Application Review Process, Selection Process, Programmatic and Financial Risk, and Application Rejection: The Interim Rule describes the process for selecting Applicants to receive a BEA Program Award and determining Award amounts.

a. Award percentages: In the CDFI Related Activities category (except for an Equity Investment or Equity-Like Loan), for CDFI Applicants, the estimated Award amount will be equal to 18 percent of the increase in Qualified Activity for the category. If an Applicant is not a CDFI Applicant, the estimated Award amount will be equal to 6 percent of the increase in Qualified Activity for the category. Notwithstanding the foregoing, for a CDFI Applicant and for an Applicant that is not a CDFI Applicant, the Award percentage applicable to an Equity Investment, Equity-Like Loan, or Grant in a CDFI shall be 15 percent of the increase in Qualified Activity for the category.

In Distressed Community Financing Activities and Service Activities categories, for a CDFI Applicant, the estimated Award amount will be equal to 9 percent of the weighted value of the increase in Qualified Activity for the category. If an Applicant is not a CDFI Applicant, the estimated Award amount will be equal to 3 percent of the weighted value of the increase in Qualified Activity for the category.

b. Award Amounts: Applicants will calculate and request an estimated Award amount in accordance with a multi-step procedure that is outlined in the Interim Rule (at 12 CFR 1806.403). As outlined in the Interim Rule at 12 CFR 1806.404, the CDFI Fund will determine actual Award amounts based on the availability of funds, increases in Qualified Activities from the Baseline Period to the Assessment Period, and the priority ranking of each Applicant. In calculating the increase in Qualified Activities, the CDFI Fund will determine the eligibility of each transaction for which an Applicant has applied for a Bank Enterprise Award. In some cases, the actual Award amount calculated by the CDFI Fund may not be the same as the estimated Award amount requested by the Applicant.

For purposes of calculating Award disbursement amounts, the CDFI Fund will treat Qualified Activities with a total principal amount less than or equal to $250,000 as fully disbursed. For all other Qualified Activities, Award Recipients will have 12 months from the end of the Assessment Period to make disbursements and 18 months from the end of the Assessment Period to submit to the CDFI Fund disbursement requests for the corresponding portion of their Awards, after which the CDFI Fund will rescind and de-obligate any outstanding Award balance and said outstanding Award balance will no longer be available to the Award Recipient.

B. Review and Selection Process:

1. Application Review Process: All Applications will be initially evaluated by external non-Federal reviewers. Reviewers are selected based on their experience in understanding various financial transactions, reading and interpreting financial documentation, strong written communication skills, and strong mathematical skills. Reviewers must complete the CDFI Fund's conflict of interest process and be approved by the CDFI Fund. The CDFI Fund's application reader conflict of interest policy is located on the CDFI Fund's Web site.

2. Selection Process: If the amount of funds available during the funding round is insufficient for all estimated Award amounts, Award Recipients will be selected based on the process described in the Interim Rule at 12 CFR 1806.404. This process gives funding priority to Applicants that undertake activities in the following order: (i) CDFI Related Activities, (ii) Distressed Community Financing Activities, and (iii) Service Activities, as described in the Interim Rule at 12 CFR 1806.404(c).

Within each category, CDFI Applicants will be ranked first according to the ratio of the actual Award amount calculated by the CDFI Fund for the category to the total assets of the Applicant, followed by Applicants that are not CDFI Applicants according to the ratio of the actual Award amount calculated by the CDFI Fund for the category to the total assets of the Applicant.

Selections within each priority category will be based on the Applicants' relative rankings within each such category, subject to the availability of funds and any established maximum dollar amount of total awards that may be awarded for the Distressed Community Financing Activities category of Qualified Activities, as determined by the CDFI Fund.

The CDFI Fund, in its sole discretion: (i) May adjust the estimated Award amount that an Applicant may receive, (ii) may establish a maximum amount that may be awarded to an Applicant, and (iii) reserves the right to limit the amount of an Award to any Applicant if the CDFI Fund deems it appropriate.

The CDFI Fund reserves the right to contact the Applicant to confirm or clarify information. If contacted, the Applicant must respond within the CDFI Fund's time parameters or run the risk of having its Application rejected.

The CDFI Fund reserves the right to change its eligibility and evaluation criteria and procedures. If those changes materially affect the CDFI Fund's Award decisions, the CDFI Fund will provide information regarding the changes through the CDFI Fund's Web site.

3. Programmatic and Financial Risk: The CDFI Fund will consider safety and soundness information from the appropriate Federal bank regulatory agency as defined in Section 3 of the Federal Deposit Insurance Act (12 U.S.C. 1813(q)). If the appropriate Federal bank regulatory agency identifies safety and soundness concerns, the CDFI Fund will assess whether the concerns cause or will cause the Applicant to be incapable of completing the activities for which funding has been requested. The CDFI Fund will not approve a BEA Program Award under any circumstances for an Applicant if the appropriate Federal bank regulatory agency indicates that the Applicant received a composite rating of “5” on its most recent examination, performed in accordance with the Uniform Financial Institutions Rating System.

Furthermore, the CDFI Fund will not approve a BEA Program Award for the following reasons if at the time of application the Applicant received any of the following:

a. A CRA assessment rating of below “Satisfactory” on its most recent examination;

b. a going concern opinion on its most recent audit;

c. a Prompt Corrective Action directive from its regulator.

Applicants and/or their appropriate Federal bank regulator agency may be contacted by the CDFI Fund to provide additional information related to Federal bank regulatory or CRA information. The CDFI Fund will consider this information and may choose to disapprove a BEA Program Award for an Applicant if the information indicates that the Applicant may be unable to responsibly manage, re-invest, and/or report on a BEA Program Award during the performance period.

4. Application Rejection: The CDFI Fund reserves the right to reject an Application if information (including administrative error) comes to the CDFI Fund's attention that either: Adversely affects an Applicant's eligibility for an award; adversely affects the CDFI Fund's evaluation or scoring of an Application; or indicates fraud or mismanagement on the Applicant's part. If the CDFI Fund determines any portion of the Application is incorrect in a material respect, the CDFI Fund reserves the right, in its sole discretion, to reject the Application.

There is no right to appeal the CDFI Fund's Award decisions. The CDFI Fund's Award decisions are final. The CDFI Fund will not discuss the specifics of an Applicant's BEA Program Application or provide reasons why an Applicant did not receive a BEA Program Award. The CDFI Fund will only respond to general questions regarding the FY 2015 Application and Award decision process until 30 days after the award announcement date.

C. Anticipated Announcement and Federal Award Dates: The CDFI Fund anticipates making its FY 2015 BEA Program award announcement by September 30, 2015.

VI. Federal Award Administration Information

A. Federal Award Notices: The CDFI Fund will notify an Applicant of its selection as an Award Recipient by delivering a Notice of Award and Award Agreement. The Notice of Award and Award Agreement will contain the general terms and conditions governing the CDFI Fund's provision of an Award. The Award Recipient will receive a copy of the Notice of Award and Award Agreement via myCDFIFund. The Award Recipient is required to execute the Award Agreement and return it to the CDFI Fund. Each Award Recipient must also ensure that complete and accurate banking information is reflected in its System for Award Management (SAM) account on www.sam.gov in order to receive its award disbursement.

B. Administrative and National Policy Requirements: If, prior to entering into an Award Agreement, information (including an administrative error) comes to the CDFI Fund's attention that adversely affects: The Award Recipient's eligibility for an award; the CDFI Fund's evaluation of the Application; the Award Recipient's compliance with any requirement listed in the Uniform Requirements; or indicates fraud or mismanagement on the Award Recipient's part, the CDFI Fund may, in its discretion and without advance notice to the Award Recipient, terminate the award or take other actions as it deems appropriate.

If the Award Recipient's certification status as a CDFI changes, the CDFI Fund reserves the right, in its sole discretion, to re-calculate the Award, modify the Notice of Award, and modify the Award Agreement based on the Award Recipient's non-CDFI status.

By executing an Award Agreement, the Award Recipient agrees that, if the CDFI Fund becomes aware of any information (including an administrative error) prior to the Effective Date of the Award Agreement that either adversely affects the Award Recipient's eligibility for an Award, or adversely affects the CDFI Fund's evaluation of the Award Recipient's Application, or indicates fraud or mismanagement on the part of the Award Recipient, the CDFI Fund may, in its discretion and without advance notice to the Award Recipient, terminate the Award Agreement or take other actions as it deems appropriate. The CDFI Fund reserves the right, in its sole discretion, to rescind an award if the Award Recipient fails to return the Award Agreement, signed by the authorized representative of the award Recipient, and/or provide the CDFI Fund with any other requested documentation, within the CDFI Fund's deadlines. In addition, the CDFI Fund reserves the right, in its sole discretion, to terminate and rescind the Award Agreement and the award made under this NOFA for any criteria described in the following table:

Table 6—Criteria That May Result in Award Termination Prior to the Execution of an Award Agreement
Criteria | Description
Failure to meet reporting requirements | If an Applicant, is a prior CDFI Fund award Recipient or Allocatee under any CDFI Fund program and is not current on the reporting requirements set forth in the previously executed assistance, award, allocation, bond loan agreement(s), or agreement to guaranty, as of the date of the Notice of Award, the CDFI Fund reserves the right, in its sole discretion, to delay entering into an Award Agreement and/or to delay making a disbursement of Award proceeds, until said prior Recipient or Allocatee is current on the reporting requirements in the previously executed assistance, award, allocation, bond loan agreement(s), or agreement to guaranty. Please note that automated systems employed by the CDFI Fund for receipt of reports submitted electronically typically acknowledge only a report's receipt; such acknowledgment does not warrant that the report received was complete and therefore met reporting requirements. If said prior Recipient or Allocatee is unable to meet this requirement within the timeframe set by the CDFI Fund, the CDFI Fund reserves the right, in its sole discretion, to terminate and rescind the Notice of Award and the Award made under this NOFA.
Pending resolution of noncompliance | If, at any time prior to entering into an Award Agreement under this NOFA, an Applicant that is a prior CDFI Fund award Recipient or Allocatee under any CDFI Fund program: Has submitted reports to the CDFI Fund that demonstrate noncompliance with a previous assistance, award, or allocation agreement, but the CDFI Fund has yet to make a final determination regarding whether or not the entity is in default of its previous assistance, award, allocation, bond loan agreement, or agreement to guaranty, the CDFI Fund reserves the right, in its sole discretion, to delay entering into an Award Agreement and/or to delay making a disbursement of Award proceeds, pending full resolution, in the sole determination of the CDFI Fund, of the noncompliance. If said prior Recipient or Allocatee is unable to meet this requirement, in the sole determination of the CDFI Fund, the CDFI Fund reserves the right, in its sole discretion, to terminate and rescind the Notice of Award and the Award made under this NOFA.
Default status | If prior to entering into an Award Agreement under this NOFA: The CDFI Fund has made a final determination that an Applicant that is a prior CDFI Fund Recipient or Allocatee under any CDFI Fund program whose award or allocation terminated in default of such prior agreement; the CDFI Fund has provided written notification of such determination to such organization; and the anticipated date for entering into the Award Agreement under this NOFA is within a period of time specified in such notification throughout which any new award, allocation, assistance, bond loan agreement(s), or agreement to guaranty is prohibited, the CDFI Fund reserves the right, in its sole discretion, to terminate and rescind the Award Agreement and the award made under this NOFA.
Compliance with Federal civil rights requirements | If prior to entering into an Award Agreement under this NOFA, the Recipient receives a final determination, made within the last three years, in any proceeding instituted against the Recipient in, by, or before any court, governmental, or administrative body or agency, declaring that the Award Recipient has violated the following laws: Title VI of the Civil Rights Act of 1964, as amended (42 U.S.C. 2000d); Section 504 of the Rehabilitation Act of 1973 (29 U.S.C. 794); the Age Discrimination Act of 1975, (42 U.S.C. 6101-6107), and Executive Order 13166, Improving Access to Services for Persons with Limited English Proficiency, the CDFI Fund will terminate and rescind the Assistance Agreement and the award made under this NOFA.
Do Not Pay | The Do Not Pay Business Center was developed to support Federal agencies in their efforts to reduce the number of improper payments made through programs funded by the Federal government. The CDFI Fund reserves the right, in its sole discretion, to rescind an award if the award Recipient is identified as ineligible to be a recipient per the Do Not Pay database.
Safety and soundness | If it is determined the award Recipient is or will be incapable of meeting its Award obligations, the CDFI Fund will deem the award Recipient to be ineligible or require it to improve safety and soundness conditions prior to entering into an Award Agreement.

Award Agreement: After the CDFI Fund selects an Award Recipient, unless an exception detailed in this NOFA applies, the CDFI Fund and the Award Recipient will enter into an Award Agreement. The Award Agreement will set forth certain required terms and conditions of the Award, which will include, but not be limited to: (i) The amount of the Award; (ii) the type of the Award; (iii) the approved uses of the Award; (iv) the performance goals and measures; (v) the performance periods; and (vi) the reporting requirements. The Award Agreement shall provide that an Award Recipient shall: (i) Carry out its Qualified Activities in accordance with applicable law, the approved Application, and all other applicable requirements; (ii) not receive any disbursement of award dollars until the CDFI Fund has determined that the Award Recipient has fulfilled all applicable requirements; and (iii) use the BEA Award amount for BEA Qualified Activities.

C. Reporting: The CDFI Fund will require each Award Recipient that receives an Award of over $50,000 through this NOFA to account for and report to the CDFI Fund on the use of the Award. This will require Award Recipients to establish administrative controls, subject to applicable OMB Circulars. The CDFI Fund will collect information from each such Award Recipient on its use of the Award at least once following the Award and more often if deemed appropriate by the CDFI Fund in its sole discretion. The CDFI Fund will provide guidance to Award Recipients outlining the format and content of the information required to be provided to describe how the funds were used.

The CDFI Fund may collect information from each Recipient including, but not limited to, an Annual Report with the following components:

Table 7—Reporting Requirements
Criteria | Description
Single Audit Narrative Report (or like report) | The Recipient must submit, via myCDFIFund, a Single Audit Narrative Report for each year of its period of performance notifying the CDFI Fund whether it is required to have a single audit pursuant to OMB Single Audit requirements.
Single Audit (if applicable) (or similar report) | A Recipient that is a non-profit entity that expends $750,000 or more in Federal awards during its fiscal year must have a single audit conducted for that year. If a Recipient is required to complete a Single Audit Report, it should be submitted to the Federal Audit Clearinghouse see 2 CFR Subpart F-Audit Requirements in the Uniform Federal Award Requirements. For-profit award Recipients will be required to complete and submit a similar report directly to the CDFI Fund.
Use of BEA Program Award Report | If the award Recipient receives a BEA Program award of over $50,000, it must submit the Use of Award report to the CDFI Fund via myCDFIFund.
Explanation of Noncompliance (as applicable) or successor report | If the award Recipient fails to meet a Performance Goal or reporting requirements, it must submit the Explanation of Noncompliance via myCDFI Fund.

Each Award Recipient is responsible for the timely and complete submission of the Reporting requirements. The CDFI Fund reserves the right to contact the Award Recipient to request additional information and documentation. The CDFI Fund will use such information to monitor each Award Recipient's compliance with the requirements in the Award Agreement and to assess the impact of the BEA Program. The CDFI Fund reserves the right, in its sole discretion, to modify these reporting requirements if it determines it to be appropriate and necessary; however, such reporting requirements will be modified only after notice has been provided to award Recipients.

D. Financial Management and Accounting: The CDFI Fund will require award Recipients to maintain financial management and accounting systems that comply with Federal statutes, regulations, and the terms and conditions of the Federal award. These systems must be sufficient to permit the preparation of reports required by general and program specific terms and conditions, including the tracing of funds to a level of expenditures adequate to establish that such funds have been used according to the Federal statutes, regulations, and the terms and conditions of the Federal award.

Each of the Qualified Activities categories will be ineligible for indirect costs and an associated indirect cost rate. The cost principles used by award Recipients must be consistent with Federal cost principles and support the accumulation of costs as required by the principles, and must provide for adequate documentation to support costs charged to the BEA Program award. In addition, the CDFI Fund will require award Recipients to: maintain effective internal controls; comply with applicable statutes, regulations, and the Award Agreement; evaluate and monitor compliance; take action when not in compliance; and safeguard personally identifiable information.

VII. Federal Awarding Agency Contacts

A. Questions Related to Application and Prior Award Recipient Reporting, Compliance and Disbursements: The CDFI Fund will respond to questions concerning this NOFA, the Application and reporting, compliance, or disbursements between the hours of 9:00 a.m. and 5:00 p.m. Eastern Time, starting on the date that this NOFA is published through the date listed in Table 1. The CDFI Fund will post responses to frequently asked questions in a separate document on its Web site. Other information regarding the CDFI Fund and its programs may be obtained from the CDFI Fund's Web site at http://www.cdfifund.gov.

The following table lists CDFI Fund contact information:

Table 8—Contact Information
Type of question | Telephone number (not toll free) | Email addresses
BEA Program | 202-653-0421 | cdfihelp@cdfi.treas.gov.
Certification, Compliance Monitoring, and Evaluation | 202-653-0423 | ccme@cdfi.treas.gov.
myCDFIFund—IT Help Desk | 202-653-0422 | IThelpdesk@cdfi.treas.gov.

B. Information Technology Support: People who have visual or mobility impairments that prevent them from using the CDFI Fund's Web site should call (202) 653-0422 for assistance (this is not a toll free number).

C. Communication With the CDFI Fund: The CDFI Fund will use its myCDFIFund Internet interface to communicate with Applicants and Award Recipients under this NOFA. Award Recipients must use myCDFIFund to submit required reports. The CDFI Fund will notify Award Recipients by email using the addresses maintained in each Award Recipient's myCDFIFund account. Therefore, an Award Recipient and any Subsidiaries, signatories, and Affiliates must maintain accurate contact information (including contact person and authorized representative, email addresses, fax numbers, phone numbers, and office addresses) in their myCDFIFund account(s).

D. Civil Rights and Diversity: Any person who is eligible to receive benefits or services from CDFI Fund or award Recipients under any of its programs is entitled to those benefits or services without being subject to prohibited discrimination. The Department of the Treasury's Office of Civil Rights and Diversity enforces various Federal statutes and regulations that prohibit discrimination in financially assisted and conducted programs and activities of the CDFI Fund. If a person believes that s/he has been subjected to discrimination and/or reprisal because of membership in a protected group, s/he may file a complaint with: Associate Chief Human Capital Officer, Office of Civil Rights, and Diversity, 1500 Pennsylvania Ave. NW., Washington, DC 20220 or (202) 622-1160 (not a toll-free number).

VIII. Other Information

A. Reasonable Accommodations: Requests for reasonable accommodations under section 504 of the Rehabilitation Act should be directed to Mr. Michael Jones, Community Development Financial Institutions Fund, U.S. Department of the Treasury at JonesM@cdfi.treas.gov no later than 72 hours in advance of the application deadline.

B. Paperwork Reduction Act: Under the Paperwork Reduction Act (44 U.S.C. chapter 35), an agency may not conduct or sponsor a collection of information, and an individual is not required to respond to a collection of information, unless it displays a valid OMB control number. Pursuant to the Paperwork Reduction Act, the BEA Program funding Application has been assigned the following control number: 1559-0005.

C. Application Information Sessions: The CDFI Fund may conduct webinars or host information sessions for organizations that are considering applying to, or are interested in learning about, the CDFI Fund's programs. For further information, please visit the CDFI Fund's Web site at http://www.cdfifund.gov.

Authority: 12 U.S.C. 1834a, 4703, 4703 note, 4713; 12 CFR part 1806.

Dated: April 30, 2015.
Mary Ann Donovan,
Director, Community Development Financial Institutions Fund.

[FR Doc. 2015-10432 Filed 5-4-15; 8:45 am]

BILLING CODE 4810-70-P